DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) # Depth in feet above ground Modified | Communities affected
Washington County, Arkansas, and Incorporated Areas
Docket No.: FEMA-B-7472
Brush Creek | At intersection with Interstate 540 Approximately 150 feet downstream of Gutensohn | +1304 +1334 | City of Springdale.
Tributary | Approximately 125 feet upstream of Force-Main Crossing At intersection with Gutensohn Road | +1317 +1326 | City of Springdale.
Mud Creek | Approximately 50 feet upstream of Gregg Street At intersection with College Avenue | +1183 +1203 | City of Fayetteville, City of Johnson.
West Fork White River | Approximately 0.5 miles upstream from confluence with White River Approximately 1500 feet downstream from the intersection with Harvey Owl Road | +1173 +1173 | City of Fayetteville.
* National Geodetic Vertical Datum.
# Depth in feet above ground.
+ North American Vertical Datum.
ADDRESSES
City of Fayetteville
Maps are available for inspection at 113 West Mountain, Fayetteville, AR 72701.
City of Johnson
Maps are available for inspection at 2904 Main Dr., Johnson, AR 72741.
City of Springdale
Maps are available for inspection at 201 North Spring Street, Springdale, AR 72764.
Hopkins County, Kentucky and Incorporated Areas
Docket No.: FEMA-B-7710
Clear Creek | Approximately 1450 feet downstream of KY 2171 Approximately 140 feet upstream of West Thompson Avenue | +399 +418 | City of Earlington Hopkins County, (Unincorporated Areas).
Tributary | Confluence with Clear Creek Approximately 50 feet downstream of Loch Mary Reservoir | +405 +422 | City of Earlington.
Elk Creek | Confluence with Pond River Approximately 8600 feet downstream of Brown Road | +387 +387 | Hopkins County, (Unincorporated Areas).
| Approximately 750 feet downstream of Island Ford Road | +406
| Approximately 320 feet downstream of Fowler Road | +412
Tributary 10.5 | Approximately 100 feet upstream of confluence with Elk Creek Tributary 5.1 Approximately 450 feet upstream of Island Park Drive | +403 +425 | City of Madisonville Hopkins County, (Unincorporated Areas).
Tributary 4 | Confluence with Elk Creek Approximately 120 feet downstream of Stagecoach Road | +412 +439 | City of Madisonville Hopkins County, (Unincorporated Areas).
Tributary 5.1 | Approximately 1660 feet downstream of McGrew Lane Approximately 170 feet upstream of Edward T. Breathitt Parkway | +400 +426 | City of Madisonville Hopkins County, (Unincorporated Areas).
Otter Creek | Confluence with Pond River Approximately 5300 feet upstream of Vandetta Road | +387 +387 | Hopkins County, (Unincorporated Areas).
Pleasant Run | Approximately 580 feet downstream of North Hopkinsville Street Approximately 1550 feet upstream of Seaboard System Railroad | +406 +411 | City of Nortonville.
Pond River | Confluence with Otter Creek Approximately 14,570 feet upstream of Anton Road | +387 +387 | Hopkins County, (Unincorporated Areas).
* National Geodetic Vertical Datum.
# Depth in feet above ground.
+ North American Vertical Datum.
ADDRESSES
City of Earlington
Maps are available for inspection at 56 North Main Street, Madisonville, KY 42431.
City of Madisonville
Maps are available for inspection at 56 North Main Street, Madisonville, KY 42431.
City of Nortonville
Maps are available for inspection at 56 North Main Street, Madisonville, KY 42431.
Hopkins County (Unincorporated Areas)
Maps are available for inspection at 56 North Main Street, Madisonville, KY 42431.
Greene County, New York (All Jurisdictions)
Docket No.: FEMA-D-7686
Batavia Kill | At the confluence with Schoharie Creek Approximately 0.44 mile upstream of Big Hollow Road | +1,180 +2,312 | Town of Ashland, Town of Prattsville, Town of Windham.
East Kill | Approximately 60 feet downstream of State Route 23A At the Colgate Outlet Access Road | +1,402 +2,063 | Town of Jewett.
Gooseberry Creek | At the confluence with Schoharie Creek Approximately 50 feet upstream of the confluence of Sawmill Creek | +1,729 +1,861 | Town of Hunter, Village of Tannersville.
Mitchell Hollow Creek | Approximately 260 feet upstream of the confluence with Batavia Kill Approximately 0.54 mile upstream of State Route 23 | +1,518 +1,566 | Town of Windham.
Sawmill Creek | At the confluence with Gooseberry Creek Approximately 320 feet upstream of Spring Street | +1,860 +1,973 | Town of Hunter, Village of Tannersville.
Schoharie Creek | At the county boundary Approximately 270 feet upstream of Elka Road | +1,143 +1,806 | Town of Hunter, Town of Jewett, Town of Lexington, Town of Prattsville, Village of Hunter.
Stony Clove Creek | At the county boundary Approximately 500 feet upstream of State Route 214 | +1,169 +1,794 | Town of Hunter.
West Kill | At the confluence with Scoharie Creek Approximately 660 feet upstream of Ad Van Road | +1,318 +1,942 | Town of Lexington.
* National Geodetic Vertical Datum.
# Depth in feet above ground.
+ North American Vertical Datum.
ADDRESSES
Town of Ashland
Maps are available for inspection at the Ashland Town Hall, 12094 Route 23, Ashland, New York.
Town of Hunter
Maps are available for inspection at the Hunter Town Hall, 5748 Route 23A, Tannersville, New York.
Town of Jewett
Maps are available for inspection at the Jewett Municipal Building, 3547 County Route 23C, Jewett, New York.
Town of Lexington
Maps are available for inspection at the Lexington Town Hall, 3542 Route 42, Lexington, New York.
Town of Prattsville
Maps are available for inspection at the Prattsville Town Hall, Supervisor's Office, 14517 Main Street, Prattsville, New York.
Town of Windham
Maps are available for inspection at the Windham Town Hall, 371 State Route 296, Hensonville, New York.
Village of Hunter
Maps are available for inspection at the Hunter Village Hall, 6349 Main Street, Hunter, New York.
Village of Tannersville
Maps are available for inspection at the Tannersville Village Hall, 1 Park Lane, Tannersville, New York.
Orange County, North Carolina and Incorporated Areas
Docket No.: FEMA-D-7812
Dry Branch | At the confluence with New Hope Creek Tributary Approximately 870 feet upstream of Silver Creek Trail | +286 +397 | Town of Chapel Hill.
# Depth in feet above ground.
* National Geodetic Vertical Datum.
+ North American Vertical Datum.
ADDRESSES
Town of Chapel Hill
Maps available for inspection Chapel Hill Town Hall, Stormwater Management Program Office, 209 North Columbia Street, Chapel Hill, North Carolina.
Montour County, Pennsylvania, and Incorporated Areas
Docket No.: FEMA-B-7473
Mahoning Creek | Approximately 7345 feet downstream of Northumberland Street Approximately 1310 feet upstream of Northumberland Street | +460 +461 | Borough of Danville, Township of Mahoning.
Roaring Creek | Approximately 1310 feet downstream of River Drive Approximately 980 feet upstream of River Drive | +470 +470 | Township of Mayberry.
Sechler Run | Approximately 215 feet downstream of Rooney Avenue Bridge Approximately at 1210 feet upstream of Railroad Street. | +461 +461 | Borough of Danville.
Susquehanna River | Approximately at 9500 feet downstream of Factory Street, at the Montour County Line Approximately 6.4 miles upstream of Factory Street, at the Montour County Line | +459 +471 | Township of Mayberry, Borough of Danville, Township of Cooper, Township of Mahoning.
# Depth in feet above ground.
* National Geodetic Vertical Datum.
+ North American Vertical Datum.
ADDRESSES
Borough of Danville
Maps are available for inspection at 239 Mill Street, Danville, PA 17821.
Township of Cooper
Maps are available for inspection at 19 Steltz Road, Danville, PA.
Township of Mahoning
Maps are available for inspection at 1101 Bloom Road, Danville, PA 17821.
Township of Mayberry
Maps are available for inspection at 53 Sunset Road, Catawissa, PA 17820.

(Catalog of Federal Domestic Assistance No. 97.022, “Flood Insurance.”)

Dated: November 28, 2007.
David I. Maurstad,
Federal Insurance Administrator of the National Flood Insurance Program, Department of Homeland Security, Federal Emergency Management Agency.

[FR Doc. E7-23689 Filed 12-5-07; 8:45 am]

BILLING CODE 9110-12-P